DEPARTMENT OF THE INTERIOR

Fish and Wildlife Service

Aquatic Nuisance Species Task Force Detection and Monitoring Committee Meeting

AGENCY: Fish and Wildlife Service, Interior.

ACTION: Notice of meeting.

SUMMARY: This notice announces a meeting of the Detection and Monitoring Committee of the Aquatic Nuisance Species Task Force. The meeting is open to the public. The meeting topics are identified in the SUPPLEMENTARY INFORMATION.

DATES: The Committee will meet from 8:30 a.m. to 5 p.m., Tuesday, March 22, 2005.

ADDRESSES: The meeting will be held at the Smithsonian Environmental Research Center, 647 Contees Wharf Rd., Edgewood, Maryland. Phone (443) 482-2200.

FOR FURTHER INFORMATION CONTACT: Pam Fuller, Chair, Detection and Monitoring Committee, at (352) 264-3481 or by e-mail at: Pam_Fuller@usgs.gov or Pam Meacham, Acting Executive Secretary, Aquatic Nuisance Species Task Force at (703) 358-1796 or by e-mail at: pam_meacham@fws.gov.

SUPPLEMENTARY INFORMATION: Pursuant to section 10(a)(2) of the Federal Advisory Committee Act (5 U.S.C. App. I), this notice announces a meeting of the Aquatic Nuisance Species Task Force Detection and Monitoring Committee. The Task Force was established by the Nonindigenous Aquatic Nuisance Prevention and Control Act of 1990 (16 U.S.C. 4701-4741). Topics to be addressed at this meeting include: A discussion of the committee's goals; a demonstration of the USGS database on sampling protocols for aquatic invasive species, followed by discussion on standardized protocols and reviewer recommendations; presentations by selected monitoring programs focusing on geographic location, habitat, sampling techniques and species sampled; and discussion of a framework for inventorying monitoring activities and data management for aquatic invasive species in the U.S.

Minutes of the meeting will be maintained by the Executive Secretary, Aquatic Nuisance Species Task Force, Suite 810, 4401 North Fairfax Drive, Arlington, Virginia 22203-1622. Minutes for the meetings will be available at this location for public inspection during regular business hours, Monday through Friday.

Dated: March 2, 2005.
Mamie A. Parker,
Co-Chair, Aquatic Nuisance Species Task Force, Assistant Director—Fisheries and Habitat Conservation.

[FR Doc. 05-4700 Filed 3-7-05; 11:44 am]

BILLING CODE 4310-55-P